DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three year extension of its End-Use Certificate (EUC), OMB Control Number 1910-5121. This information collection request covers information necessary to determine the acceptability of the individual(s) acquiring High Risk Personal Property.

DATES: Comments regarding this collection must be received on or before April 2, 2010. If you anticipate that you will be submitting comments, but find it difficult to do so within the period of time allowed by this notice, please advise the OMB Desk Officer of your intention to make a submission as soon as possible. The Desk Officer may be telephoned at 202-395-4650.

ADDRESSES: Written comments should be sent to:

DOE Desk Officer, Office of Information and Regulatory Affairs, Office of Management and Budget, New Executive Office Building, Room 10102, 735 17th Street, NW., Washington, DC 20503;

and to:

Helene Mattiello, Industrial Property Management Specialist, MA-632/L'Enfant Plaza Building, U. S. Department of Energy, Washington, DC 20585-1615, helene.mattiello@hq.doe.gov.

Alternatively, the information collection instrument and related instructions can be viewed at the Department of Energy homepage. DOE Directives, Regulations, and Standards Portal, http://www.directives.doe.gov/forms/0000.html (last visited Feb. 18, 2009) (follow the link for “DOE F 580.1”).

FOR FURTHER INFORMATION CONTACT: Helene Mattiello, at the above address, or by telephone at (202) 287-1593, or by fax at (202) 287-1656.

SUPPLEMENTARY INFORMATION: This information collection request contains: (1) OMB No. 1910-5121; (2) Information Collection Request Title: End-Use Certificate. (3) Type of Request: Renewal. (4) Purpose: The EUC is intended to determine the acceptability of the individual(s) acquiring High Risk Personal Property; inform buyers of the laws and regulations governing the use, disposition, export and re-export of High Risk Personal Property; and ensure that the property is used as stipulated in the EUC. Respondents to this information collection request are typically the general public to include private citizens. (5) Annual Estimated Number of Respondents: 1000 (6) Annual Estimated Number of Total Responses: 1000 (7) Annual Estimated Total Burden Hours: 334 (approximately 20 minutes per respondent. (8) Annual Estimated Reporting and Recordkeeping Cost Burden: 0.

Statutory Authority: Department of Energy Personal Property Management Guide, DOE G 580.1-1.

Issued in Washington, DC, on February 24, 2010.
Edward R. Simpson,
Director, Office of Procurement and Assistance Management, Department of Energy.

[FR Doc. 2010-4371 Filed 3-2-10; 8:45 am]

BILLING CODE 6450-01-P